DEPARTMENT OF TRANSPORTATION

Office of the Secretary

Notice of Applications for Certificates of Public Convenience and Necessity and Foreign Air Carrier Permits Filed Under Subpart Q During the Week Ending October 6, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-8059.

Date Filed: October 4, 2000.

Due Date for Answers, Conforming Applications, or Motion to Modify Scope: October 25, 2000.

Description: Application of Mountain Bird Inc. d/b/a Salmon Air pursuant to 49 U.S.C. Section 41738 and Subpart Q, requests authority to operate scheduled passenger service as a commuter air carrier.

Docket Number: OST-2000-8074.

Date Filed: October 5, 2000.

Due Date for Answers, Conforming Applications, or Motion to Modify Scope: October 26, 2000.

Description: Application of Euroatlantic Airways-Transportes Aereos, S.A. (“Euroatlantic”) pursuant to 49 U.S.C. Section 41301 and Subpart Q, requests a foreign air carrier permit authorizing it to engage in charter foreign air transportation of persons, property and mail between points in Portugal and points in the United States and between points in the United States and points in third countries.

Dorothy Y. Beard,
Federal Register Liaison.

[FR Doc. 00-29239 Filed 11-14-00; 8:45 am]

BILLING CODE 4910-62-P